DEPARTMENT OF THE INTERIOR

National Park Service

[NPS-WASO-NAGPRA-NPS0037485; PPWOCRADN0-PCU00RP14.R50000]

Notice of Intent To Repatriate Cultural Items: California State University, Sacramento, Sacramento, CA

AGENCY: National Park Service, Interior.

ACTION: Notice.

SUMMARY: In accordance with the Native American Graves Protection and Repatriation Act (NAGPRA), California State University, Sacramento intends to repatriate certain cultural items that meet the definition of objects of cultural patrimony and unassociated funerary objects and that have a cultural affiliation with the Indian Tribes in this notice. The cultural items were removed from Sacramento County, CA.

DATES: Repatriation of the cultural items in this notice may occur on or after March 29, 2024.

ADDRESSES: Dr. Mark Wheeler, Chief of Staff to President Luke Wood, California State University, Sacramento, 6000 J Street, Sacramento, CA 95819, telephone (916) 460-0490, email mark.wheeler@csus.edu.

SUPPLEMENTARY INFORMATION: This notice is published as part of the National Park Service's administrative responsibilities under NAGPRA. The determinations in this notice are the sole responsibility of California State University, Sacramento. The National Park Service is not responsible for the determinations in this notice. Additional information on the determinations in this notice, including the results of consultation, can be found in the summary or related records held by California State University, Sacramento.

Description

At an unknown date, five cultural objects were removed from CA-SAC-17 (also known as the Smith site) in Sacramento County by unknown individuals. The five objects of cultural patrimony consist of flaked stones and faunal remains. An unknown number of objects may be missing from the collection, and California State University, Sacramento continues to look for them.

In 1980, two cultural objects were removed from CA-SAC-57 (also know as Barry #1 site) in Sacramento County by Sacramento State students under the direction of Dr. Jerald Johnson. The two objects of cultural patrimony are flaked stones. An unknown number of objects may be missing from the collection, and California State University, Sacramento continues to look for them.

In 1980, 10 cultural objects were removed from CA-SAC-224 in Sacramento County during a survey by Derr and Spector. The 10 objects of cultural patrimony consist of flaked stones and faunal remains. An unknown number of objects may be missing from the collection, and California State University, Sacramento continues to look for them.

At an unknown date, five cultural objects were removed from CA-SAC-234 (also known as Deer Creek 3) in Sacramento County, possibly by Louis Payen. The five objects of cultural patrimony include flaked stones. An unknown number of objects may be missing from the collection, and California State University, Sacramento continues to look for them.

At an unknown date, 15 cultural objects were removed from CA-SAC-250 (also known as Babies' Britches) in Sacramento County by unknown individuals. The 15 objects of cultural patrimony consist of flaked stones and faunal remains. An unknown number of objects may be missing from the collection, and California State University, Sacramento continues to look for them.

During the 1960s and 1970s, California State University, Sacramento students surveyed and investigated sites along Dry Creek in Sacramento County (CA-SAC-217, CA-SAC-243, CA-SAC-277, CA-SAC-278, CA-SAC-279, and CA-SAC-280). As a result, 37 cultural items were collected. The 37 objects of cultural patrimony consist of flaked and ground stones. Of this number, at least three objects are currently missing, and California State University, Sacramento continues to look for them.

In 1973, one cultural object was removed from CA-SAC-315 in Sacramento County by Ann Peak. The single object of cultural patrimony is a groundstone. An unknown number of objects may be missing from the collection, and California State University, Sacramento continues to look for them.

In the 1970s, 11 cultural objects were removed from CA-SAC-320 (also known as the Sunrise Bridge site) in Sacramento County likely by Ann Peak. The 11 objects of cultural patrimony include baked clay objects and flaked and ground stones. An unknown number of objects may be missing from the collection, and California State University, Sacramento continues to look for them.

At an unknown date, 91 cultural objects were removed from CA-SAC-370 (also known as the Old Windmiller Quarry site) in Sacramento County by unknown individuals. The 91 unassociated funerary objects consist of flaked stones and unmodified stones. An unknown number of objects may be missing from the collection, and California State University, Sacramento continues to look for them.

At an unknown date, 15 cultural objects were collected from CA-SAC-390 in Sacramento County by unknown individuals. The 15 objects of cultural patrimony consist of flaked and ground stones; unmodified stones; and thermally-altered rocks. An unknown number of objects may be missing from the collection, and California State University, Sacramento continues to look for them.

In 1974, 22 cultural objects were collected form CA-SAC-Cosumnes Plowed Site #1 in Sacramento County by Sacramento State students conducting a survey under the direction of Dr. Jerald Johnson. The 22 objects of cultural patrimony consist of flaked and ground stones; unmodified stones; and thermally altered rocks. An unknown number of objects may be missing from the collection, and California State University, Sacramento continues to look for them.

At an unknown date, 142 cultural objects were collected from CA-Sac-Cameron Ranch in Sacramento County by unknown individuals. The collection was transferred to Sacramento State in 1977 from American River Junior College. The 142 objects of cultural patrimony consist of flaked and ground stones; modified stones; faunal remains; thermally altered rocks; unmodified stone; and historic materials. Of this number, at least 23 objects are currently missing, and California State University, Sacramento continues to look for them.

At an unknown date, one cultural object was removed from CA-SAC-Bottimore Ranch in Sacramento County by unknown individuals. The single object of cultural patrimony is a groundstone.

At an unknown date, one cultural object was removed from an unknown site in Sacramento County by unknown individuals. The single object of cultural patrimony is modified stone.

In 1971, 13 cultural objects were removed from an unknown site in Sacramento County by John Beck during levee maintenance. The 13 unassociated funerary objects include flaked stones; faunal remains; and modified shells. An unknown number of objects may be missing from the collection, and California State University, Sacramento continues to look for them.

In 1971, one cultural object was removed from an unknown site in Sacramento County during a survey by Sacramento State students under the direction of Dr. Jerald Johnson. The single object of cultural patrimony is a groundstone. An unknown number of objects may be missing from the collection, and California State University, Sacramento continues to look for them.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, kinship, linguistic, oral traditional, and expert opinion.

Determinations

Pursuant to NAGPRA and its implementing regulations, and after consultation with the appropriate Indian Tribes and Native Hawaiian organizations, California State University, Sacramento has determined that:

• The 104 cultural items described above are reasonably believed to have been placed with or near individual human remains at the time of death or later as part of the death rite or ceremony and are believed, by a preponderance of the evidence, to have been removed from a specific burial site of a Native American individual.

• The 268 cultural items described above have ongoing historical, traditional, or cultural importance central to the Native American group or culture itself, rather than property owned by an individual.

• There is a relationship of shared group identity that can be reasonably traced between the cultural items and the Wilton Rancheria, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 29, 2024. If competing requests for repatriation are received, the California State University, Sacramento must determine the most appropriate requestor prior to repatriation. Requests for joint repatriation of the cultural items are considered a single request and not competing requests. California State University, Sacramento is responsible for sending a copy of this notice to the Indian Tribe identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 20, 2024.
Melanie O'Brien,
Manager, National NAGPRA Program.

[FR Doc. 2024-04098 Filed 2-27-24; 8:45 am]

BILLING CODE 4312-52-P